DEPARTMENT OF COMMERCE

International Trade Administration

[A-583-831]

Stainless Steel Sheet and Strip in Coils From Taiwan: Final Results of Antidumping Duty Administrative Review and Final Determination of No Shipments; 2021-2022

AGENCY: Enforcement and Compliance, International Trade Administration, Department of Commerce.

SUMMARY: The U.S. Department of Commerce (Commerce) determines that the producers/exporters subject to this administrative review made sales of subject merchandise at less than normal value during the period of review (POR), July 1, 2021, through June 30, 2022. Additionally, Commerce determines that four companies for which we initiated a review had no shipments during the POR.

DATES: Applicable January 8, 2024.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On April 6, 2023, Commerce published in the Federal Register the Preliminary Results of the 2021-2022 administrative review ¹ of the antidumping duty order on Stainless Steel Sheet and Strip in Coils from Taiwan.² In May 2023, domestic interested parties ³ and CME Acquisitions (CME), an importer of the subject merchandise, submitted case and rebuttal briefs.⁴ On December 12, 2023, Commerce extended the time period for issuing the final results of this review until December 29, 2023.⁵ For a complete description of the events that occurred since the Preliminary Results, see the Issues and Decision Memorandum.⁶ Commerce conducted this administrative review in accordance with section 751 of the Tariff Act of 1930, as amended (the Act).

¹ See Stainless Steel Sheet and Strip in Coils from Taiwan: Preliminary Results of Antidumping Duty Administrative Review; 2020-2021, 88 FR 20481 (April 6, 2023) (Preliminary Results), and accompanying Preliminary Decision Memorandum.

² See Notice of Antidumping Duty Order; Stainless Steel Sheet and Strip in Coils from United Kingdom, Taiwan, and South Korea, 64 FR 40555 (July 27, 1999) (Order).

³ The domestic interested parties are Outokumpu Stainless USA, LLC and North American Stainless (hereinafter, domestic interested parties).

⁴ See Domestic Interested Parties' Letter, “Case Brief Submitted on Behalf of Domestic Interested Parties,” dated May 8, 2023; See CME's Letter, “CME Reply Brief in Support of Commerce's Preliminary Results,” dated May 15, 2023.

⁵ See Memorandum, “Fourth Extension of Deadline for Final Results of Antidumping Duty Administrative Review,” dated December 12, 2023; see also Memorandum, “Extension of Deadline for Final Results of Antidumping Duty Administrative Review,” dated July 27, 2023; and Memorandum, “Second Extension of Deadline for Final Results of Antidumping Duty Administrative Review,” dated October 26, 2023; and Memorandum, “Third Extension of Deadline for Final Results of Antidumping Duty Administrative Review,” dated November 29, 2023.

⁶ See Memorandum, “Issues and Decision Memorandum for the Final Results of the 2020-2021 Administrative Review of the Antidumping Duty Order on Stainless Steel Sheet and Strip in Coils from Taiwan,” dated concurrently with, and hereby adopted by, this notice (Issues and Decision Memorandum).

This review covers 61 producers and/or exporters of the subject merchandise. Commerce selected two companies, Lien Kuo Metal Industries Co., Ltd. (Lien Kuo) and S More Steel Materials Co., Ltd. (S More) for individual examination.⁷ Four companies, Yieh Mau Corporation (Yieh Mau), Yuen Chang Stainless Steel Co., Ltd. (Yuen Chang), and Yieh Phui Enterprise Co., Ltd. (Yieh Phui), and Yieh United Steel Corporation (YUSCO) reported having no shipments during the POR, see “Determination of No Shipments” section below. The remaining producers and/or exporters not selected for individual examination are listed in the “Final Results of the Review” section of this notice.

⁷ See Memorandum, “Respondent Selection,” dated October 7, 2022.

Scope of the Order

The merchandise subject to the Order is certain stainless steel sheet and strip in coils from Taiwan. A complete description of the scope of the Order is contained in the Issues and Decision Memorandum.

Analysis of Comments Received

All issues raised in the case and rebuttal briefs filed by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Determination of No Shipments

In the Preliminary Results, Commerce preliminarily determined that Yieh Mau Corporation (Yieh Mau), Yieh Phui Enterprise Co., Ltd. (Yieh Phui), Yuen Chang Stainless Steel Co., Ltd. (Yuen Chang), and Yieh United Steel Corporation (YUSCO) made no shipments of subject merchandise into the United States during the POR.⁸ We received no comments from interested parties regarding our preliminary determination and do not have any information on the record to contradict this determination. Therefore, we continue to find that Yieh Mau, Yieh Phui, Yuen Chang, and YUSCO made no shipments of subject merchandise during the POR. Accordingly, consistent with Commerce's practice, we intend to instruct U.S. Customs and Border Protection (CBP) to liquidate any existing entries of subject merchandise produced by Yieh Mau, Yieh Phui, Yuen Chang, or YUSCO, but exported by other parties, at the rate for the intermediate reseller, if available, or at the all-others rate.⁹

⁸ See Preliminary Results, 88 FR at 20482.

⁹ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Changes Since the Preliminary Results

Based on a review of the record and comments received from interested parties regarding the Preliminary Results, we revised the weighted average margin assigned to the respondents not selected for individual examination.¹⁰ For detailed information, see the Issues and Decision Memorandum.

¹⁰ See Issues and Decision Memorandum at Comment 2.

Rate for Non-Selected Respondents

For the rate assigned to companies not selected for individual examination in an administrative review, generally, Commerce looks to section 735(c)(5) of the Act which provides instructions for calculating the all-others rate in an investigation. Under section 735(c)(5)(A) of the Act, the all-others rate is normally “an amount equal to the weighted average of the estimated weighted-average dumping margins established for exporters and producers individually investigated, excluding any zero or de minimis margins, and any margins determined entirely {on the basis of facts available}.” Under section 735(c)(5)(B) of the Act, if the estimated dumping margins established for all exporters and producers individually investigated are zero or de minimis margins, or are determined entirely under section 776, the administering authority may use any reasonable method to establish the estimated all-others rate for exporters and producers not individually investigated, including averaging the dumping margins determined for the exporters and producers individually investigated.

For the final results of this administrative review, we continue to base the weighted-average dumping margins for Lien Kuo and S More the mandatory respondents in this review, entirely on facts otherwise available with adverse inferences (AFA). However, while we preliminarily found that it was not appropriate to assign this rate to the non-selected companies under review, for these final results of review, we find that the mandatory respondents' AFA rate is reasonably reflective of non-selected companies' potential dumping margins during the POR. Therefore, we are assigning a margin of 21.10 percent to the companies not individually examined (see Appendix II for a full list of these companies). For further discussion, see the Issues and Decision Memorandum.

Final Results of Review

As a result of this review, we determine that the following weighted-average dumping margins exist for the period July 1, 2021, through June 30, 2022: ¹¹

¹¹ See Appendix II for a full list of companies not individually examined in this review.

Exporter and/or producer | Weighted- average dumping margin (percent)
Lien Kuo Metal Industries Co., Ltd | 21.10
S More Steel Materials Co., Ltd | 21.10
Companies Not Individually Examined | 21.10

Disclosure

Normally, Commerce discloses to interested parties the calculations performed in connection with the final results within five days of any public announcement or, if there is no public announcement, within five days of the date of publication of the notice of the final results in the Federal Register, in accordance with 19 CFR 351.224(b). However, because Commerce applied total AFA to the mandatory respondents in this administrative review, and the applied AFA rate is based on a rate calculated for a respondent in a prior segment of this proceeding, there are no calculations to disclose.

Assessment Rates

Pursuant to section 751(a)(2)(C) of the Act, and 19 CFR 351.212(b)(1), Commerce will determine, and CBP shall assess, antidumping duties on all appropriate entries of subject merchandise in accordance with the final results of this review. For the companies that were not selected for individual examination, we will instruct CBP to assess antidumping duties at the assessment rate assigned to the companies, based on the methodology described in the “Rate for Non-Selected Companies” section, above. The final results of this review shall be the basis for the assessment of antidumping duties on entries of merchandise covered by the final results of this review and for future deposits of estimated duties, where applicable.¹²

¹² See section 751(a)(2)(C) of the Act.

As indicated above, for Yieh Mau, Yieh Phui, Yuen Chang, and YUSCO, we will instruct CBP to liquidate any existing entries of merchandise produced by these companies, but exported by other parties, at the rate for the intermediate reseller, if available, or at the all-others rate.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review, as provided by section 751(a)(2)(C) of the Act: (1) the cash deposit rate for the companies subject to this review will be equal to the weighted-average dumping margin established in the final results of this review; (2) for merchandise exported by producers or exporters not covered in this review but covered in a prior completed segment of the proceeding, the cash deposit rate will continue to be the company-specific rate published in the completed segment for the most recent period; (3) if the exporter is not a firm covered in this review, a prior review, or the original LTFV investigation, but the producer has been covered in a prior completed segment of this proceeding, then the cash deposit rate will be the rate established in the completed segment for the most recent period for the producer of the merchandise; and (4) the cash deposit rate for all other producers or exporters will continue to be 12.61 percent, the all-others rate established in the LTFV investigation for this proceeding.¹³ These cash deposit requirements, when imposed, shall remain in effect until further notice.

¹³ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a violation subject to sanction.

Notification to Interested Parties

We are issuing and publishing this notice in accordance with sections 751(a)(1) and 777(i) of the Act, and 19 CFR 351.221(b)(5).

Dated: December 29, 2023.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Application of Facts Available with an Adverse Inference

Comment 2: Rate Assigned to the Non-Selected Companies

VI. Recommendation

Appendix II

List of Companies Not Selected for Individual Examination

1. Broad International Resources Ltd.

2. Chain Chon Industrial Co., Ltd.

3. Cheng Feng Plastic Co., Ltd.

4. Chia Far Industrial Factory Co., Ltd.

5. Chien Shing Stainless Co.

6. China Steel Corporation

7. Chung Hung Steel Corp

8. Chyang Dah Stainless Co., Ltd.

9. Dah Shi Metal Industrial Co., Ltd.

10. Da-Tsai Stainless Steel Co., Ltd.

11. DB Schenker (HK) Ltd. Taiwan Branch.

12. DHV Technical Information Co., Ltd.

13. Froch Enterprises Co., Ltd.

14. Gang Jou Enterprise Co., Ltd.

15. Genn Hann Stainless Steel Enterprise Co., Ltd.

16. Goang Jau Shing Enterprise Co., Ltd.

17. Goldioceans International Co., Ltd.

18. Gotosteel Ltd.

19. Grace Alloy Corp.

20. Hung Shuh Enterprises Co., Ltd.

21. Hwang Dah Steel Inc.

22. Jie Jin Stainless Steel Industry Co., Ltd.

23. JJSE Co., Ltd.

24. KNS Enterprise Co., Ltd.

25. Lancer Ent. Co., Ltd.

26. Lien Chy Laminated Metal Co., Ltd.

27. Lih Chan Steel Co., Ltd.

28. Lung An Stainless Steel Ind. Co., Ltd.

29. Master United Corp.

30. Maytun International Corp.

31. NKS Steel Ind. Ltd.

32. PFP Taiwan Co., Ltd.

33. Po Chwen Metal.

34. Prime Rocks Co., Ltd.

35. Shih Yuan Stainless Steel Enterprise Co., Ltd.

36. Silineal Enterprises Co., Ltd.

37. Stanch Stainless Steel Co., Ltd.

38. Ta Chen Stainless Pipe Co., Ltd.

39. Tah Lee Special Steel Co., Ltd.

40. Taiwan Nippon Steel Stainless.

41. Tang Eng Iron Works.

42. Teng Yao Hardware Industrial Co., Ltd.

43. Tibest International Inc.

44. Ton Yi Industrial Corp

45. Tsai See Enterprise Co., Ltd.

46. Tung Mung Development Co., Ltd.¹⁴

¹⁴ Stainless steel sheet and strip in coils produced and exported by Tung Mung Development Co., Ltd. were excluded from the Order, effective October 16, 2002. See Notice of Amended Final Determination in Accordance with Court Decision of the Antidumping Duty Investigation of Stainless Steel Sheet and Strip in Coils from Taiwan, 69 FR 67311, 67312 (November 17, 2004). Accordingly, the rate assigned for Tung Mung Development Co., Ltd. in this review is only for where the company was the producer or exporter of subject merchandise but not both.

47. Vasteel Enterprises Co., Ltd.

48. Vulcan Industrial Corporation.

49. Wuu Jing Enterprise Co., Ltd.

50. Yc Inox Co., Ltd.

51. Yes Stainless International Co., Ltd.

52. Yieh Trading Corp.

53. Yu Ting Industries Co., Ltd.

54. Yue Seng Industrial Co., Ltd.

55. Yung Fa Steel & Iron Industry Co., Ltd.

[FR Doc. 2024-00086 Filed 1-5-24; 8:45 am]

BILLING CODE 3510-DS-P